DEPARTMENT OF HOUSING AND URBAN DEVELOPMENT

[Docket No. FR-5100-FA-05]

Announcement of Funding Awards for the Section 811 Supportive Housing for the Elderly Program Fiscal Year 2007

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Section 811 Supportive Housing for Persons with Disabilities Program. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 811 Supportive Housing for Persons with Disabilities Program is authorized by Section 811 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); and the Revised Continuing Appropriations Resolution, 2007 (Pub. L. 110-5; approved February 15, 2007).

The competition was announced in the SuperNOFA published in the Federal Register on March 13, 2007, 72 FR 11434. Applications were rated and selected for funding on the basis of selection criteria contained in that Notice.

The Catalog of Federal Domestic Assistance number for this program is 14.181.

The Section 811 program is the Department's primary program for providing affordable housing for persons with disabilities that allows them to live independently with supportive services. Under this program, HUD provides funds to non-profit organizations to develop supportive housing for person with disabilities. Funds are also provided to subsidize the expenses to operate the housing projects.

A total of $124,797,825 was awarded to 100 projects for 1,009 units nationwide. In accordance with section 102(a)(4)(C) of the Department of Housing and Urban Development Reform Act of 1989 (103 Stat. 1987. 42 U.S.C. 3545), the Department is publishing the grantees and amounts of the awards in Appendix A of this document.

Dated: May 1, 2009.
Brian Montgomery,
Assistant Secretary for Housing—Federal Housing Commissioner.

FY 2007 Selections, Section 811 Supportive Housing for Persons With Disabilities Program
ALABAMA
Decatur, AL, Ability Plus, Capital Advance: $705,800, Three-year rental subsidy: $72,300, Number of units: 8 | Dothan, AL, Wiregrass Rehabilitation Center, Inc., Capital Advance: $776,500, Three-year rental subsidy: $63,300, Number of units: 8.
ALASKA
Juneau, AK, REACH, Inc., Capital Advance: $713,700, Three-year rental subsidy: $78,600, Number of units: 4 | Ketchikan, AK, Community Connections, Capital Advance: $1,588,900, Three-year rental subsidy: 156,900, Number of units: 8.
ARKANSAS
Forrest City, AR, St. Francis Area Development Center, Inc., Capital Advance: $881,400, Three-year rental subsidy: $75,600, Number of units: 10 | Haskell, AR, Birch Tree Communities, Capital Advance: $881,400, Three-year rental subsidy: $84,000, Number of units: 10.
CALIFORNIA
Chico, CA, Northern Valley Catholic Soc Svcs, Inc., Capital Advance: $1,329,500, Three-year rental subsidy: $110,100, Number of units: 10 | Redwood City, CA, Mental Health Association of San Mateo County, Capital Advance: $1,792,800, Three-year rental subsidy: $242,700, Number of units: 15.
Escondido, CA, T.E.R.I., Inc., Capital Advance: $582,900, Three-year rental subsidy: $86,400, Number of units: 6 | San Francisco, CA, BHNC, Co-Sponsor: The Rector Wardens Vestry of St. Peter's Epis Ch, Capital Advance: $2,679,400, Three-year rental subsidy: $329,400, Number of units: 20.
Manteca, CA, Satellite Housing, Inc., Capital Advance: $1,329,500, Three-year rental subsidy: $110,100, Number of units: 10 | Ventura, CA, Cabrillo Economic Development Corp., Capital Advance: $3,599,100, Three-year rental subsidy: $372,900, Number of units: 25.
COLORADO
Longmont, CO, Dev. Disabilities Ctr. dba Imagine, Capital Advance: $582,900, Three-year rental subsidy: $62,400, Number of units: 6
CONNECTICUT
New Haven, CT, Continuum of Care, Inc., Capital Advance: $1,645,200, Three-year rental subsidy: $137,700, Number of units: 10 | New Haven, CT, Leeway, Inc., Capital Advance: $1,427,300, Three-year rental subsidy: $137,700, Number of units: 10.
FLORIDA
LaBelle, FL, Goodwill Industries of SW FL Inc., Capital Advance: $1,932,100, Three-year rental subsidy: $134,400, Number of units: 14 | Pensacola, FL, VOA of Florida Inc., Capital Advance: $1,856,000, Three-year rental subsidy: $116,400, Number of units: 14.
GEORGIA
Austell, GA, ARC Cobb, Inc., Capital Advance: $366,800, Three-year rental subsidy: $37,200, Number of units: 4 | Cairo, GA, Goodwill Industries-Big Bend, Inc., Capital Advance: $1,507,800, Three-year rental subsidy: $129,600, Number of units: 15.
Mableton, GA, ARC Cobb, Inc., Capital Advance: $366,800, Three-year rental subsidy: $37,200, Number of units: 4 | Trenton, GA, VOA Southeast Inc., Capital Advance: $1,207,300, Three-year rental subsidy: $111,000, Number of units: 13.
HAWAII
Aiea, HI, Mental Health Kokua, Capital Advance: $764,100, Three-year rental subsidy: $81,900, Number of units: 6
IDAHO
Coeur d'Alene, ID, St. Vincent de Paul Salvage Bureau, Capital Advance: $1,276,500, Three-year rental subsidy: $138,300, Number of units: 15
ILLINOIS
Crest Hill, IL, Cornerstone Services, Inc., Capital Advance: $987,100, Three-year rental subsidy: $66,900, Number of units: 6 | Joliet, IL, Cornerstone Services, Inc., Capital Advance: $582,900, Three-year rental subsidy: $66,900, Number of units: 6.
E Peoria, IL, Tazewell Co Resource Center, Inc., Capital Advance: $508,900, Three-year rental subsidy: $66,900, Number of units: 6 | Pekin, IL, Tazwood Mental Health Center, Inc., Capital Advance: $1,715,700, Three-year rental subsidy: $155,700, Number of units: 15.
INDIANA
Fort Wayne, IN, Park Center, Inc., Capital Advance: $970,600, Three-year rental subsidy: $104,400, Number of units: 10
Merrilville, IN, Southlake Center for Mental Health, Capital Advance: $1,595,700, Three-year rental subsidy: $146,100, Number of units: 15
IOWA
Osceola, IA, Mosaic, Capital Advance: $1,424,500, Three-year rental subsidy: $85,800, Number of units: 9
KANSAS
Garden City, KS, Area Mental Health Center, Capital Advance: $1,523,900, Three-year rental subsidy: $131,400, Number of units: 15 | Winfield, KS, Mosaic, Capital Advance: $884,300, Three-year rental subsidy: $75,300, Number of units: 8.
KENTUCKY
LaGrange, KY, Cedar Lake Lodge, Inc., Capital Advance: $1,083,900, Three-year rental subsidy: $88,500, Number of units: 9
LOUISIANA
Bastrop, LA, Morehouse CHDO, Co-Sponsor: Morehouse Council on Aging, Inc., Capital Advance: $1,316,400, Three-year rental subsidy: $126,600, Number of units: 15 | Eunice, LA, Diocese of Lafayette, Capital Advance: $1,454,000, Three-year rental subsidy: $131,400, Number of units: 16.
Chataignier, LA, Gabriel Villa, Inc., Capital Advance; $1,435,500, Three-year rental subsidy: $140,100, Number of units: 16 | Monroe, LA, Monroe Area Guidance Center, Capital Advance: $537,200, Three-year rental subsidy: $45,300, Number of units: 6.
MAINE
Lewiston, ME, John F. Murphy Homes, Inc., Capital Advance: $818,500, Three-year rental subsidy: $57,300, Number of units: 6
MARYLAND
Baltimore, MD, Aids Interfaith Residential Services, Inc., Co-Sponsor: Empire Homes of Maryland, Inc., Capital Advance: $618,700, Three-year rental subsidy: $57,000, Number of units: 6 | Frederick, MD, Way Station, Inc., Capital Advance: $748,200, Three-year rental subsidy: $68,400, Number of units: 6.
Elkton, MD, Upper Bay Counseling and Support Services, Capital Advance: $1,394,500, Three-year rental subsidy: $113,700, Number of units: 10 | Germantown, MD, Montgomery County Coalition, Capital Advance: $1,180,500, Three-year rental subsidy: $115,800, Number of units: 10.
Lanham, MD, Vesta, Inc., Capital Advance: $945,300, Three-year rental subsidy: $115,800, Number of units: 10 | Sykesville, MD, Prologue Inc., Capital Advance: $774,500, Three-year rental subsidy: $79,500, Number of units: 7.
MASSACHUSETTS
Chicopee, MA, Hawthorne Services, Inc., Capital Advance: $551,800, Three-year rental subsidy: $87,900, Number of units: 6 | Groveland, MA, American Training, Inc., Capital Advance: $549,200, Three-year rental subsidy: $73,200, Number of units: 5.
MICHIGAN
Detroit, MI, Volunteers of America Michigan Inc., Capital Advance: $1,138,500, Three-year rental subsidy: $117,000, Number of units: 10 | Southfield, MI, Community Housing Network, Inc., Capital Advance: $847,525, Three-year rental subsidy: $93,600, Number of units: 7.
Portage, MI, Lift Foundation, Capital Advance: $846,800, Three-year rental subsidy: $97,500, Number of units: 10
MINNESOTA
Owatonna, MN, Accessible Space, Capital Advance: $1,618,200, Three-year rental subsidy: $159,000, Number of units: 14
NEBRASKA
Beatrice, NE, Mosaic, Capital Advance: $1,130,600, Three-year rental subsidy: $96,000, Number of units: 10
NEVADA
Las Vegas, NV, Accessible Space, Inc., Capital Advance: $3,116,100, Three-year rental subsidy: $220,200, Number of units: 21
NEW JERSEY
Egg Harbor Twp, NJ, CARING, Inc., Co-Sponsor: CARING House Projects, Inc., Capital Advance: $515,500, Three-year rental subsidy: $60,900, Number of units: 4 | Hammonton, NJ, ARC of Atlantic Co., Inc., Capital Advance: $1,091,300, Three-year rental subsidy: $121,500, Number of units: 8.
Egg Harbor Twp, NJ, CARING, Inc., Co-Sponsor: CARING House Projects, Inc., Capital Advance: $1,031,000, Three-year rental subsidy: $121,500, Number of units: 8 | Mullica, NJ, Collaborative Supp Progs. of NJ, Co-Sponsor: Comm Enterprises Corp, Inc., Capital Advance: $493,900, Three-year rental subsidy: $60,900, Number of units: 4.
Warren, NJ, Cerebral Palsy of New Jersey, Inc., Capital Advance: $582,900, Three-year rental subsidy: $115,800, Number of units: 6
NEW MEXICO
Albuquerque, NM, New Life Homes, Inc., Capital Advance: $937,000, Three-year rental subsidy: $86,400, Number of units: 10 | Tucumcari, NM, Eastern Plains Housing Dev Corp., Capital Advance: $671,300, Three-year rental subsidy: $76,800, Number of units: 8.
NEW YORK
Fredonia, NY, Aspire of WNY, Capital Advance: $1,383,400, Three-year rental subsidy: $139,800, Number of units: 12 | Shirley, NY, Options for Community Living, Inc., Capital Advance: $1,860,100, Three-year rental subsidy: $267,600, Number of units: 12.
Patterson, NY, Putnam County Chapter, NYSARC, Inc., Capital Advance: $582,900, Three-year rental subsidy: $133,800, Number of units: 6 | Shirley, NY, Federation of Organizations, Capital Advance: $930,000, Three-year rental subsidy: $133,800, Number of units: 6.
NORTH CAROLINA
Burlington, NC, The ARC of North Carolina Inc., Capital Advance: $736,600, Three-year rental subsidy: $59,100, Number of units: 6 | Fayetteville, NC, Abilities of Florida, Inc., Capital Advance: $1,473,300, Three-year rental subsidy: $117,900, Number of units: 12.
Charlotte, NC, UMAR-WNC Inc., Capital Advance: $1,119,100, Three-year rental subsidy: $88,500, Number of units: 9
OHIO
Bowling Green, OH, Wood Lane Residential Properties, Inc., Capital Advance: $1,635,600, Three-year rental subsidy: $164,100, Number of units: 15 | Columbus, OH, Creative Housing, Inc., Capital Advance: $981,100, Three-year rental subsidy: $103,800, Number of units: 10.
Brunswick, OH, Medina Creative Housing, Inc., Capital Advance: $860,500, Three-year rental subsidy: $93,900, Number of units: 8 | Cuyahoga Falls, OH, Ohio Multi-County Development Corporation, Capital Advance: $1,613,400, Three-year rental subsidy: $164,100, Number of units: 15.
Hamilton, OH, Transitional Living, Inc., Capital Advance: $991,600, Three-year rental subsidy: $105,300, Number of units: 10 | Lakewood, OH, Welcome House, Inc., Capital Advance: $1075,600, Three-year rental subsidy: $117,300, Number of units: 10.
Medina, OH, Medina Creative Housing, Inc., Capital Advance: $949,100, Three-year rental subsidy: $93,900, Number of units: 12 | Wooster, OH, Ohio Multi-County Development, Corporation, Capital Advance: $1,398,300, Three-year rental subsidy: $140,700, Number of units: 15.
OKLAHOMA
Oklahoma City, OK, Neighborhood Services Organization, Inc., Capital Advance: $1,278,100, Three-year rental subsidy: $117,600, Number of units: 14
Shawnee, OK, South Central Industries, Inc., Capital Advance: $780,300, Three-year rental subsidy: $108,600, Number of units: 12
OREGON
Wilsonville, OR, Northwest Housing Alternatives, Inc., Capital Advance: $1,704,500, Three-year rental subsidy: $152,400, Number of units: 15
PENNSYLVANIA
Greensburg, PA, Passavant Memorial HO, Capital Advance: $836,700, Three-year rental subsidy: $84,900, Number of units: 8 | Pittsburgh, PA, ACTION HSG Inc., Co-Sponsor: Jewish Res SER, Inc., Capital Advance: $1,114,400, Three-year rental subsidy: $106,200, Number of units: 10.
Philadelphia, PA, Liberty Resources, Inc., Capital Advance: $713,600, Three-year rental subsidy: $76,500, Number of units: 5 | Philadelphia, PA, Liberty Resources, Inc., Capital Advance: $1,500,600, Three-year rental subsidy: $168,000, Number of units: 11.
Philadelphia, PA, Liberty Resources, Inc., Capital Advance: $1,500,600, Three-year rental subsidy: $168,000, Number of units: 11
RHODE ISLAND
Cranston, RI, Spurwink/RI, Capital Advance: $1,364,200, Three-year rental subsidy: $136,200, Number of units: 10 | Warwick, RI, House of Hope Comm. Dev. Corp., Capital Advance: $766,400, Three-year rental subsidy: $68,100, Number of units: 5.
SOUTH CAROLINA
Anderson, SC, Upstate Homeless Coalition of S.C., Capital Advance: $1,674,800, Three-year rental subsidy: $126,600, Number of units: 14 | Moore, SC, Spartanburg Leased Housing Corporation, Capital Advance: $1,794,400, Three-year rental subsidy: $126,000, Number of units: 15.
SOUTH DAKOTA
Watertown, SD, Accessible Space, Inc., Capital Advance: $1,934,700, Three-year rental subsidy: $157,500, Number of units: 19
TENNESSEE
Knoxville, TN, Breakthrough Corporation, Capital Advance: $1,033,900, Three-year rental subsidy: $81,300, Number of units: 9 | Smithville, TN, Prospect, Inc., Capital Advance: $689,200, Three-year rental subsidy: $52,200, Number of units: 6.
TEXAS
Baytown, TX, Multi-family Mission Ministries, INC, Capital Advance: $1,197,300, Three-year rental subsidy: $136,500, Number of units: 14 | Corpus Christi, TX, Accessible Housing Resources, Inc., Capital Advance: $534,000, Three-year rental subsidy: $45,000, Number of units: 6.
Conroe, TX, Tri-County MHMR, Capital Advance: $1,335,700, Three-year rental subsidy: $136,500, Number of units: 15
Conroe, TX, Tri-County MHMR, Capital Advance: $1,335,700, Three-year rental subsidy: $136,500, Number of units: 15
VIRGINIA
Fredericksburg, VA, Rappahannock Comm. Ser., Inc., Capital Advance: $432,700, Three-year rental subsidy: $61,200, Number of units: 6 | Orange County, VA, Rappahannock-Rapidan Comm Ser Bd, Capital Advance: $432,700, Three-year rental subsidy: $61,200, Number of units: 6.
WASHINGTON
Colville, WA, Spokane Mental Health, Capital Advance: $1,499,900, Three-year rental subsidy: $149,700, Number of units: 15 | Forks, WA, Serenity House, Capital Advance: $1,656,700, Three-year rental subsidy: $169,200, Number of units: 14.
Leavenworth, WA, Upper Valley MEND, Capital Advance: $409,800, Three-year rental subsidy: $53,400, Number of units: 5
WEST VIRGINIA
Hinton, WV, Human Resource Dev. and Employ., Capital Advance: $1,180,500, Three-year rental subsidy: $109,500, Number of units: 10

[FR Doc. E9-11095 Filed 5-12-09; 8:45 am]

BILLING CODE 4210-67-P